DEPARTMENT OF TRANSPORTATION

Federal Aviation Administration

14 CFR Part 71

[Docket No. FAA-2011-0750; Airspace Docket No. 11-AAL-08]

Revision of Class E Airspace; Umiat, AK

AGENCY: Federal Aviation Administration (FAA), DOT.

ACTION: Final rule.

SUMMARY: This action revises Class E airspace at Umiat, AK, due to the cancellation of two special instrument approach procedures at the Umiat Airport. The cancellation of these two special instrument approach procedures has made the transition airspace from 700 feet above the surface no longer necessary for the safety of Instrument Flight Rules (IFR) operations.

DATES: Effective 0901 UTC, December 15, 2011. The Director of the Federal Register approves this incorporation by reference action under title 1, Code of Federal Regulations, part 51, subject to the annual revision of FAA Order 7400.9 and publication of conforming amendments.

FOR FURTHER INFORMATION CONTACT: Martha Dunn, AAL-538G, Federal Aviation Administration, 222 West 7th Avenue, Box 14, Anchorage, AK 99513-7587; telephone number (907) 271-5898; fax: (907) 271-2850; e-mail: Martha.ctr.Dunn@faa.gov. Internet address: http://www.faa.gov/about/office_org/headquarters_offices/ato/service_units/systemops/fs/alaskan/rulemaking/.

SUPPLEMENTARY INFORMATION:

History

On Wednesday, August 10, 2011, the FAA published a notice of proposed rulemaking (NPRM) in the Federal Register to revise Class E airspace at Umiat, AK (76 FR 49387).

Interested parties were invited to participate in this rulemaking proceeding by submitting written comments on the proposal to the FAA. One comment was made regarding a typing error within the final rule. This error has been corrected.

The Class E airspace areas are published in paragraphs 6002 and 6005, respectively, of FAA Order 7400.9V, Airspace Designations and Reporting Points, signed September 9, 2011, and effective September 15, 2011, which is incorporated by reference in 14 CFR 71.1. The Class E airspace designations listed in this document will be published subsequently in the Order. With the exception of editorial changes, and the changes described above, this rule is the same as that proposed in the NPRM.

The Rule

This action amends Title 14 Code of Federal Regulations (14 CFR) part 71 by revising Class E airspace at the Umiat Airport, Umiat, AK, due to the cancellation of two special instrument approach procedures. The Class E airspace extending upward from 700 above the surface is no longer necessary for the safety and management of IFR operations at the airport.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it reflects the changes in use of the Umiat Airport and is consistent with the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, signed September 9, 2011, and effective September 15, 2011, is amended as follows:

Paragraph 6005 Class E arspace extending upward from 700 feet or more above the surface of the earth.

* * * * *

AAL AK E5 Umiat, AK [Revised]

Umiat Airport, AK

(Lat. 69°22′16″ N., long. 152°08′06″ W.)

That airspace extending upward from 1,200 feet above the surface within a 73-mile radius of the Umiat Airport, Alaska.

Issued in Anchorage, AK, on October 14, 2011.
Marshall G. Severson,
Acting Manager, Alaska Flight Services.

[FR Doc. 2011-27366 Filed 10-25-11; 8:45 am]

BILLING CODE 4910-13-P